DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services (HHS) is named as the respondent in all proceedings brought by the filing of petitions for compensation under the Program, the United States Court of Federal Claims is charged by statute with responsibility for considering and acting upon the petitions.

SUPPLEMENTARY INFORMATION: The Program provides a system of no-fault compensation for certain individuals who have been injured by specified childhood vaccines. Subtitle 2 of Title XXI of the PHS Act, 42 U.S.C. 300aa-10 et seq. provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2016, through April 30, 2016. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 08N146B, Rockville, MD 20857; (301) 443-6593, or visit our Web site at: http://www.hrsa.gov/vaccinecompensation/index.html.

Dated: May 26, 2016.
James Macrae,
Acting Administrator.

List of Petitions Filed

1. Christopher Stephen Fennell; Sun City West, Arizona; Court of Federal Claims No: 16-0413V

2. Willie Johnson; Dublin, Georgia; Court of Federal Claims No: 16-0415V

3. Maria Villanueva; Utuado, Puerto Rico; Court of Federal Claims No: 16-0416V

4. Laura Friedel; Woodstock, Illinois; Court of Federal Claims No: 16-0417V

5. Kathleen Mosier; Akron, Ohio; Court of Federal Claims No: 16-0418V

6. Christina Osenbach and Bryan Osenbach on behalf of B. O.; Boston, Massachusetts; Court of Federal Claims No: 16-0419V

7. Meredith Pyers; Columbus, Ohio; Court of Federal Claims No: 16-0421V

8. Alexandria Skeens; Granville, Ohio; Court of Federal Claims No: 16-0423V

9. Marsha Crawford; Paris, Kentucky; Court of Federal Claims No: 16-0428V

10. Edward McMahon; Tucson, Arizona; Court of Federal Claims No: 16-0429V

11. Kristina Raab on behalf of J. R.; San Diego, California; Court of Federal Claims No: 16-0431V

12. Pella Parker; Los Angeles, California; Court of Federal Claims No: 16-0433V

13. Michele Jacob and Craig Jacob on behalf of Ryan Jacob; New York, New York; Court of Federal Claims No: 16-0434V

14. Jason Guido on behalf of D. G.; Rochester, Pennsylvania; Court of Federal Claims No: 16-0435V

15. Carl L. Anderson; Baltimore, Maryland; Court of Federal Claims No: 16-0436V

16. Kelsi Amen; Grand Island, Nebraska; Court of Federal Claims No: 16-0437V

17. Martin Rausch; Avery, North Carolina; Court of Federal Claims No: 16-0438V

18. Timothy Koller; Neenah, Wisconsin; Court of Federal Claims No: 16-0439V

19. Christian Geideman and Erinn Geideman on behalf of H. G. G.; Menlo Park, California; Court of Federal Claims No: 16-0443V

20. Vilma Espada Cubano; San Juan, Puerto Rico; Court of Federal Claims No: 16-0444V

21. Regina Murrell; Jackson, Mississippi; Court of Federal Claims No: 16-0445V

22. Kristen Bell; Alpharetta, Georgia; Court of Federal Claims No: 16-0450V

23. Lorraine Sofia; Lyndhurst, New Jersey; Court of Federal Claims No: 16-0452V

24. Arlene Sandman; Boston, Massachusetts; Court of Federal Claims No: 16-0453V

25. Frederick Green; Newport, Rhode Island; Court of Federal Claims No: 16-0454V

26. Linda Commesso; Boston, Massachusetts; Court of Federal Claims No: 16-0455V

27. Isaac Watson; Indianapolis, Indiana; Court of Federal Claims No: 16-0456V

28. Patricia Swanson; Beverly, Massachusetts; Court of Federal Claims No: 16-0457V

29. Betty D. Backman; Manhattan, Kansas; Court of Federal Claims No: 16-0458V

30. Sandra E. Williams on behalf of Richard Williams, Deceased; Surprise, Arizona; Court of Federal Claims No: 16-0459V

31. Linda K. Russell; Tampa, Florida; Court of Federal Claims No: 16-0460V

32. Steven Patton; Vienna, Virginia; Court of Federal Claims No: 16-0461V

33. Scott Cipa; Vienna, Virginia; Court of Federal Claims No: 16-0462V

34. Jessica Buckingham; New Castle, Delaware; Court of Federal Claims No: 16-0463V

35. Mette Rose and Soren Rose Kjaer on behalf of F. R. K.; New York, New York; Court of Federal Claims No: 16-0465V

36. Mette Rose and Soren Rose Kjaer on behalf of M. R. K.; New York, New York; Court of Federal Claims No: 16-0466V

37. Victoria Pusateri; Southgate, Michigan; Court of Federal Claims No: 16-0467V

38. Nathaniel Paul; Fairfax, Virginia; Court of Federal Claims No: 16-0468V

39. Rebecca S. Melgares; Milwaukee, Wisconsin; Court of Federal Claims No: 16-0470V

40. Arthur L. Trollinger; Graham, North Carolina; Court of Federal Claims No: 16-0473V

41. Tracy E. Carrozza; Princeton, New Jersey; Court of Federal Claims No: 16-0474V

42. Allen O. Cabansag; Spring Valley, California; Court of Federal Claims No: 16-0475V

43. Luciana Desa; Washington, District of Columbia; Court of Federal Claims No: 16-0476V

44. Deborah Tebault on behalf of J. T.; Phoenix, Arizona; Court of Federal Claims No: 16-0478V

45. Stephen Vasas; Ann Arbor, Michigan; Court of Federal Claims No: 16-0479V

46. Theresa Hibbs; Shepherdsville, Kentucky; Court of Federal Claims No: 16-0481V

47. Stephanie Gilbert on behalf of P. L.; Vienna, Virginia; Court of Federal Claims No: 16-0484V

48. Sonya Tabor; Beverly Hills, California; Court of Federal Claims No: 16-0485V

49. The Estate of Frank Lee Kapp, Jr., Deceased; Salisbury, North Carolina; Court of Federal Claims No: 16-0487V

50. Leslie Lewis; Lexington, South Carolina; Court of Federal Claims No: 16-0488V

51. Christine Benshoff; Orwigsburg, Pennsylvania; Court of Federal Claims No: 16-0489V

52. Robert Hearn; Jackson, Mississippi; Court of Federal Claims No: 16-0493V

53. John Neukom; Normangee, Texas; Court of Federal Claims No: 16-0495V

54. Heather Wright on behalf of B. W.; Washington, District of Columbia; Court of Federal Claims No: 16-0498V

55. Julian Henley; Scottsbluff, Nebraska; Court of Federal Claims No: 16-0499V

56. Misty Pasco on behalf of M. P.; Phoenix, Arizona; Court of Federal Claims No: 16-0500V

57. Janis Pool; Lawrence, Kansas; Court of Federal Claims No: 16-0503V

58. Jeffrey A. Bales; Greensboro, North Carolina; Court of Federal Claims No: 16-0505V

59. Terry Bartee; Antioch, California; Court of Federal Claims No: 16-0506V

60. Linda Barton; Lancaster, Pennsylvania; Court of Federal Claims No: 16-0508V

61. Richard George Laux; Farmington Hills, Michigan; Court of Federal Claims No: 16-0509V

62. Judith A. Pannick; Flint, Michigan; Court of Federal Claims No: 16-0510V

63. Laura Kerrin; Philadelphia, Pennsylvania; Court of Federal Claims No: 16-0511V

64. Rev. Andrew Thomas Moody on behalf of E. G. M.; Houston, Texas; Court of Federal Claims No: 16-0513V

65. James Ritchie; Ponte Vedra Beach, Florida; Court of Federal Claims No: 16-0514V

66. Thomas Smith; Weston, West Virginia; Court of Federal Claims No: 16-0520V

67. Shahid Mahroof; Stony Brook, New York; Court of Federal Claims No: 16-0521V

68. Stephanie Smith; Allentown, Pennsylvania; Court of Federal Claims No: 16-0522V

69. Monika Piatek on behalf of N. P.; Chicago, Illinois; Court of Federal Claims No: 16-0524V

70. Patricia Rubio; Bedford, New Hampshire; Court of Federal Claims No: 16-0525V

71. Frederick Morrison; Gulf Breeze, Florida; Court of Federal Claims No: 16-0526V

72. Gary Schilling; Boston, Massachusetts; Court of Federal Claims No: 16-0527V

73. Tiffany Harris on behalf of A. H.; Boston, Massachusetts; Court of Federal Claims No: 16-0528V

74. Lianna Roberts; Boston, Massachusetts; Court of Federal Claims No: 16-0529V

75. Jennifer Young; Canton, Michigan; Court of Federal Claims No: 16-0530V

76. Scott Pudalov; Boulder, Colorado; Court of Federal Claims No: 16-0532V

77. Tracy Butler; Denver, Colorado; Court of Federal Claims No: 16-0534V

[FR Doc. 2016-13073 Filed 6-2-16; 8:45 am]

BILLING CODE 4165-15-P